DEPARTMENT OF ENERGY

Federal Energy Regulatory Commission

[Docket No. ER01-904-000]

North Carolina Power Holdings, LLC; Notice of Filing

January 10, 2001.

Take notice that on January 8, 2001, North Carolina Power Holdings, LLC (NCPH), tendered for filing an application for waivers and blanket approvals under various regulations of the Commission and for an order accepting NCPH's FEFC Electric Rate Schedule No. 1 and accompanying Code of Conduct.

NCPH requests waiver of the 60-day prior notice requirement to permit NCPH's Rate Schedule and Code of Conduct to be effective January 19, 2001.

NCPH intends to engage in electric power and energy transactions as a marketer. In transactions where NCPH sells electric energy, it proposes to make such sales on rates, terms and conditions to be mutually agreed to with the purchasing party. NCPH's proposed Rate Schedule also permits it to reassign transmission capacity.

Any person desiring to be heard or to protest such filing should file a motion to intervene or protest with the Federal Energy Regulatory Commission, 888 First Street, NE., Washington, DC 20426, in accordance with rules 211 and 214 of the Commission's Rules of Practice and Procedure (18 CFR 385.211 and 385.214). All such motions and protests should be filed on or before January 18, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-1311 Filed 1-16-01; 8:45 am]

BILLING CODE 6717-01-M